DEPARTMENT OF DEFENSE

Office of the Secretary

Reserve Forces Policy Board; Notice of Federal Advisory Committee Meeting

AGENCY: Office of the Secretary of Defense, Reserve Forces Policy Board, Department of Defense.

ACTION: Notice of Federal Advisory Committee Meeting.

SUMMARY: The Department of Defense is publishing this notice to announce that the following Federal Advisory Committee meeting of the Reserve Forces Policy Board (RFPB) will take place.

DATES: Tuesday, December 8, 2015 from 9:00 a.m. to 3:35 p.m.

ADDRESSES: The address is the Pentagon, Room 3E863, Arlington, VA.

FOR FURTHER INFORMATION CONTACT: Mr. Alex Sabol, Designated Federal Officer, (703) 681-0577 (Voice), (703) 681-0002 (Facsimile), Email—Alexander.J.Sabol.Civ@Mail.Mil. Mailing address is Reserve Forces Policy Board, 5113 Leesburg Pike, Suite 601, Falls Church, VA 22041. Web site: http://rfpb.defense.gov/. The most up-to-date changes to the meeting agenda can be found on the RFPB's Web site.

SUPPLEMENTARY INFORMATION: This meeting notice is being published under the provisions of the Federal Advisory Committee Act of 1972 (FACA) (5 U.S.C., Appendix, as amended), the Government in the Sunshine Act of 1976 (5 U.S.C. 552b, as amended), and 41 CFR 102-3.150.

Purpose of the Meeting: The purpose of the meeting is to obtain, review and evaluate information related to strategies, policies, and practices designed to improve and enhance the capabilities, efficiency, and effectiveness of the Reserve Components.

Agenda: The RFPB will hold a meeting from 9:00 a.m. until 3:35 p.m. The portion of the meeting from 9:00 a.m. to 12:30 p.m. will be closed to the public and will consist of remarks to the RFPB from invited speakers that include the Deputy Secretary of Defense; the Chief of Staff, Army; and the Institute for Defense Analyses Corporation. The Deputy Secretary of Defense will address future strategies for use of the Reserve Components, highlighting his thoughts on issues impacting reserve organizations, the right balance of Active and Reserve Component forces, and the cost to maintain a strong Reserve Component. The Chief of Staff, Army will discuss the key challenges and priorities of the Army as the Department of Defense considers ways to balance force structure, readiness and modernization while supporting operations across the globe in a fiscally constrained environment. The Institute for Defense Analyses will brief the findings of their study on the effectiveness of the Reserve Components during Operation Iraqi Freedom. The portion of the meeting from 1:00 p.m. to 3:35 p.m. will be open to the public and will consist of briefings from the Center for Strategic and International Studies and the American Enterprise Institute to present their strategic views and the key challenges and priorities facing the Department as it considers ways to balance force structure, readiness and modernization while supporting operations across the globe in a fiscally constrained environment. It will conclude with remarks to the RFPB from the two RFPB subcommittee chairs who will provide updates on the work of their respective subcommittee. The Enhancing DoD's Role in the Homeland Subcommittee will provide an update on the Department of Defense support of civil authorities and FEMA requirements. The Ensuring a Ready, Capable, Available and Sustainable Operational Reserve Subcommittee will present its findings on the assumptions, current authorizations and policies, and mobilization predictability being used across the Department of Defense regarding the availability of Reserve Component (RC) forces.

Meeting Accessibility: Pursuant to 5 U.S.C. 552b, and 41 CFR 102-3.140 through 102-3.165, and subject to the availability of space, the meeting is open to the public from 1:00 p.m. to 3:35 p.m. Seating is on a first-come, first-served basis. All members of the public who wish to attend the public meeting must contact Mr. Alex Sabol, the Designated Federal Officer, not later than 12:00 p.m. on Monday, December 7, 2015, as listed in the FOR FURTHER INFORMATION CONTACT section to make arrangements for a Pentagon escort, if necessary. Public attendees requiring escort should arrive at the Pentagon Metro Entrance with sufficient time to complete security screening no later than 12:15 p.m. on December 8. To complete the security screening, please be prepared to present two forms of identification. One must be a picture identification card. In accordance with section 10(d) of the FACA, 5 U.S.C. 552b, and 41 CFR 102-3.155, the Department of Defense has determined that the portion of this meeting scheduled to occur from 9:00 a.m. to 12:30 p.m. will be closed to the public. Specifically, the Acting Under Secretary of Defense (Personnel and Readiness), in coordination with the Department of Defense FACA Attorney, has determined in writing that this portion of the meeting will be closed to the public because it is likely to disclose classified matters covered by 5 U.S.C. 552b(c)(1).

Written Statements: Pursuant to 41 CFR 102-3.105(j) and 102-3.140 and section 10(a)(3) of the FACA, interested persons may submit written statements to the RFPB about its approved agenda or at any time on the RFPB's mission. Written statements should be submitted to the RFPB's Designated Federal Officer at the address, email, or facsimile number listed in the FOR FURTHER INFORMATION CONTACT section. If statements pertain to a specific topic being discussed at the planned meeting, then these statements must be submitted no later than five (5) business days prior to the meeting in question. Written statements received after this date may not be provided to or considered by the RFPB until its next meeting. The Designated Federal Officer will review all timely submitted written statements and provide copies to all the RFPB members before the meeting that is the subject of this notice. Please note that since the RFPB operates under the provisions of the FACA, all submitted comments and public presentations will be treated as public documents and will be made available for public inspection, including, but not limited to, being posted on the RFPB's Web site.

Dated: November 17, 2015.
Aaron Siegel,
Alternate OSD Federal Register Liaison Officer, Department of Defense.

[FR Doc. 2015-29661 Filed 11-19-15; 8:45 am]

BILLING CODE 5001-06-P